DEPARTMENT OF DEFENSE

Department of the Navy

Notice of Intent To Prepare an Environmental Impact Statement for the Basing of MV-22 and H-1 Aircraft in Support of III Marine Expeditionary Force Elements in Hawaii

AGENCY: Department of the Navy, DoD.

ACTION: Notice.

SUMMARY: Pursuant to Section 102(2)(C) of the National Environmental Policy Act, (NEPA), of 1969 (42 United States Code 4332(2)(C)), as implemented by the Council on Environmental Quality Regulations (40 Code of Federal Regulations [CFR] Parts 1500-1508), Department of the Navy (DoN) NEPA regulations (32 CFR Part 775), and United States Marine Corps (USMC) NEPA directives (Marine Corps Order P5090.2A, changes 1 and 2), the DoN intends to prepare an Environmental Impact Statement (EIS) and conduct public scoping meetings for the proposed basing and operation of MV-22 tiltrotor (MV-22) Osprey aircraft and H-1 Cobra and Huey attack helicopters in support of III Marine Expeditionary Force (MEF) training and readiness operations in Hawaii. The EIS will evaluate a proposal to introduce up to two Marine Medium Tiltrotor (VMM) squadrons with a total of 24 MV-22 aircraft and one Marine Light Attack Helicopter (HMLA) squadron composed of 18 AH-1Z and 9 UH-1Y helicopters. Because the proposed squadrons will train on land currently owned or controlled by the Department of the Army (Army), the DoN has requested that the Army be a cooperating agency for the preparation of this EIS.

DATES: See SUPPLEMENTARY INFORMATION section for public scoping meeting dates.

ADDRESSES: Written comments on the proposed action and alternatives may be submitted during the 30-day public scoping comment period and should be submitted and postmarked no later than September 7, 2010. There are three ways to submit written comments: (1) Attending one of the public scoping open-houses, (2) Submitting through the project Web site at http://www.mcbh.usmc.mil/mv22h1eis, or (3) Via mail. Comments submitted by mail should be sent to Department of the Navy, Naval Facilities Engineering Command, Pacific Division, Attn: EV21, MV-22/H-1 EIS Project Manager, 258 Makalapa Drive, Suite 100, Pearl Harbor, HI 96860-3134.

FOR FURTHER INFORMATION CONTACT: Please visit the project Web site or contact the MV-22/H-1 EIS Project Manager by telephone at 808-472-1196 or by e-mail via the project Web site. Please submit requests for special assistance, sign language interpretation for the hearing impaired, or other auxiliary aids needed at the public scoping open house to the Project Manager by August 13, 2010.

SUPPLEMENTARY INFORMATION: The DoN is initiating a public scoping process to identify community concerns and specific issues to be addressed in the EIS. Federal, state, county agencies and interested parties are invited to attend any of these meetings and are encouraged to provide comments. The DoN will consider these comments in determining the scope of the EIS. Five public scoping meetings, using an informal open-house format, will be held on the following dates and locations in Hawaii:

1. Tuesday, August 24, 2010, 5 p.m. to 8 p.m., Hilo High School Cafeteria, 556 Waianuenue Avenue, Hilo, HI 96720.

2. Wednesday, August 25, 2010, 4 p.m. to 7 p.m., Waikoloa Elementary & Middle School Cafeteria, 68-1730 Hooko Street, Waikoloa, HI 96738.

3. Thursday, August 26, 2010, 5 p.m. to 8 p.m., King Intermediate School Cafeteria, 46-155 Kamehameha Highway, Kaneohe, HI 96744.

4. Saturday, August 28, 2010, 1 p.m. to 4 p.m., Kaunakakai Elementary School Library, Ailoa Street, Kaunakakai, HI 96748.

5. Monday, August 30, 2010, 5 p.m. to 8 p.m., Waimanalo Elementary & Intermediate School Cafeteria, 41-1330 Kalanianaole Highway, Waimanalo, HI 96795.

The scoping sessions will have informational displays available for review. Representatives from the DoN and Army will be present to answer questions, and the public will have an opportunity to submit written comments.

Over the next decade, the Marine Corps plans to restructure and rebase its forces in the Pacific. These initiatives will shape the future of Marine Corps aviation as adjustments are made to meet the diverse missions of today's and tomorrow's battlefields.

The Marine Corps organizes for operations by forming Marine Air-Ground Task Forces (MAGTFs). A MAGTF is a balanced, air-ground combined organization of Marine Corps forces under a single commander and is the Marine Corps' principal organization for all missions across the range of military operations. All MAGTFs are expeditionary, comprising four core elements: A command element (CE), a ground combat element (GCE), an aviation combat element (ACE), and a logistics combat element (LCE).

Marine Expeditionary Forces (MEFs) are the Marine Corps' largest MAGTFs, task-organized around permanent command elements and normally containing one or more Marine divisions, Marine aircraft wings, and Marine logistics groups. There are three standing MEFs across the Marine Corps. I MEF (Camp Pendleton, California) and III MEF (Okinawa, Japan) are assigned under Marine Forces Pacific. II MEF (Camp Lejeune, North Carolina) is assigned under Marine Forces Command.

Although III MEF is headquartered in Okinawa, Japan, a smaller MAGTF that is part of the larger MEF is based at Marine Corps Base (MCB) Hawaii Kaneohe Bay. The Kaneohe Bay elements include a command element (CE), the 3d Regiment (a GCE), Marine Air Group (MAG) 24 (a partial ACE), 1/12 Artillery Battalion, 3rd Radio Battalion, Combat Logistics Battalion 3 (LCE), and 21st Dental Company, among others. The VMM and HMLA squadrons would complete the MAG 24 ACE by providing missing attack and medium lift capability that are currently supplied from other commands, hence the need to base these squadrons in Hawaii.

Proposed Action

The proposed action would include the following:

• Basing and operation of up to two VMM squadrons and one HMLA squadron to service Marine Corps operations in Hawaii.

• Construction of facilities necessary to accommodate and maintain the VMM and HMLA squadrons, including new construction and replacement and/or renovation of taxiways, aprons, hangars, support facilities, and infrastructure such as roadways and utilities.

• Conducting VMM and HMLA training and readiness operations and special exercise operations to attain and maintain proficiency in the employment of the aircraft. These operations may occur at training facilities statewide and may include construction of new landing zones and improvements to existing landing zones at selected training facilities.

Purpose and Need

The purpose of the proposed action is to ensure that the Hawaii MAGTF is capable of supporting the needs of the III MEF operational commander to carry out his Title X responsibilities. To accomplish this, a MAGTF must train as it fights, that is as a single unit combining all of the four elements of a MAGTF. Readiness can only be assured through frequent, integrated training between the command, logistics, ground, and air elements of the MAGTF. Of particular importance is the ability to coordinate air and ground elements. This training, is required to maximize operational effectiveness and teaches aircrews how to combine operations with other Marine or joint air and ground assets. The need for the proposed action is to eliminate the existing disaggregation of the Hawaii MAGTF—and the work-around through gap deployments—to ensure a single deployable fighting unit to support III MEF operations in the western Pacific by correcting the currently incomplete ACE capability within the Hawaii MAGTF.

The purpose and need for the proposed action is to correct existing deficiencies in the Hawaii MAGTF force posture, which by necessity results in only three possibilities: Locate the needed assets in Hawaii (proposed action), move the entire MAGTF to another location, or the no action alternative of continuing to fill the missing capabilities from other sources. As explained above, the MAGTF is comprised of four elements. Three of these four elements are already located in Hawaii with all their attendant personnel and infrastructure. The fourth, the ACE, is partially located in Hawaii. Thus, fully 80% of the MAGTF's capacity is already located in Hawaii. Consequently, due to cost, timing and environmental and socioeconomic impacts, the option of relocating the entire MAGTF out of Hawaii was not considered a reasonable alternative.

A screening process using operational requirements was applied to narrow various Hawaii basing alternatives for the VMM and HMLA squadrons to a range of reasonable, feasible alternatives to be evaluated in the EIS. After applying the selection criteria, it was determined that Marine Corps Base (MCB) Hawaii Kaneohe Bay is the only reasonable site to be brought forward for further study.

Full implementation of the proposed action is planned for the year 2018. Approximately 1,000 active duty personnel, 22 civilian personnel (contractors and government employees), and 1,106 dependents would be associated with the new squadrons. Personnel increases would occur from 2012 through 2018, in phase with delivery of the aircraft.

Preliminary Alternatives

A range of reasonable aviation facility alternatives was developed to meet specific requirements. They vary by development footprints, layouts, and locations for aviation facilities at MCB Hawaii Kaneohe Bay. Under the No Action Alternative, current/baseline operations and support of existing capabilities would continue and new aircraft would not be introduced in order to support mission readiness. All of the alternatives except No Action involve construction of aviation facilities at MCB Hawaii Kaneohe Bay, landing zone improvements at selected sites such as Marine Corps Training Area Bellows (Bellows) in Waimanalo, and training and readiness operations by the VMM and HMLA squadrons at various training facilities statewide currently used by the Marine Corps. In addition to MCB Hawaii Kaneohe Bay and Bellows, VMM and HMLA squadrons may train at Wheeler Army Airfield, Dillingham Airfield, and various U.S. Army training areas on Oahu; Pohakuloa Training Area on the island of Hawaii; Molokai Training Support Facility and Kalaupapa Airfield on Molokai; and the Pacific Missile Range Facility on Kauai.

Environmental Issues and Resources To Be Examined

After scoping is completed, the EIS analysis will evaluate potential environmental effects associated with each alternative selected for full analysis. Issues to be addressed include, but are not limited to, aircraft noise, cultural resources, traffic, socioeconomics, biological resources, geology and soils, water quality, air quality, safety, hazardous materials and waste, visual resources, and environmental justice.

Agency Consultations

The DoN will undertake appropriate consultations with regulatory entities pursuant to the Endangered Species Act, National Historic Preservation Act, Coastal Zone Management Act, and other applicable laws or regulations. Consultation will include but is not limited to the following federal, state, and local agencies: U.S. Fish and Wildlife Service, National Marine Fisheries Service, State Historic Preservation Office, Advisory Council on Historic Preservation, National Park Service, Native Hawaiian Organizations, Historic Hawaii Foundation, and State of Hawaii Office of Planning.

Schedule

This Notice of Intent initiates a 30-day scoping comment period to identify issues to be addressed in the EIS and reasonable and feasible alternatives to implement the proposed action. The next opportunity for public input to the EIS process occurs with publication of a Notice of Availability (NOA) in the Federal Register and local media, announcing release of the Draft EIS and commencement of a 45-day public comment period. A notice will be published in local papers to advertise public meetings for the project during the 45-day comment period. The DoN will consider and respond to all comments received on the Draft EIS when preparing the Final EIS. The DoN intends to issue the Final EIS in late 2011, at which time an NOA will be published in the Federal Register and local media. The NOA will initiate a 30-day waiting period, after which the Assistant Secretary of the Navy or Principal Deputy Assistant Secretary of the Navy will issue a Record of Decision.

Dated: July 29, 2010.
D.J. Werner,
Lieutenant Commander, Judge Advocate Generals Corps, U.S. Navy, Federal Register Liaison Officer.

[FR Doc. 2010-19422 Filed 8-5-10; 8:45 am]

BILLING CODE 3810-FF-P